DEPARTMENT OF LABOR

Occupational Safety and Health Administration

29 CFR Part 1926

Safety and Health Regulations for Construction

CFR Correction

This rule is being published by the Office of the Federal Register to correct an editorial or technical error that appeared in the most recent annual revision of the Code of Federal Regulations.

In Title 29 of the Code of Federal Regulations, Part 1926, revised as of July 1, 2021, in § 1926.62, paragraph (d)(4)(ii) is revised to read as follows:

§ 1926.62 Lead.

* * * * *

(d) * * *

(4) * * *

(ii) Where the employer has previously monitored for lead exposure, and the data were obtained within the past 12 months during work operations conducted under workplace conditions closely resembling the processes, type of material, control methods, work practices, and environmental conditions used and prevailing in the employer's current operations, the employer may rely on such earlier monitoring results to satisfy the requirements of paragraph (d)(4)(i) of this section if the sampling and analytical methods meet the accuracy and confidence levels of paragraph (d)(9) of this section.

* * * * *

[FR Doc. 2022-13995 Filed 6-28-22; 8:45 am]

BILLING CODE 0099-10-P